DEPARTMENT OF HEALTH AND HUMAN SERVICES

Administration for Community Living

Agency Information Collection Activities; Proposed Collection; Comment Request; Reinstatement With Changes to Title III Supplemental Form to the Financial Status Report

AGENCY: Administration for Community Living, HHS.

ACTION: Notice.

SUMMARY: The Administration for Community Living (ACL) is announcing the proposed collection of information listed below has been submitted to the Office of Management and Budget (OMB) for review and clearance under the Paperwork Reduction Act of 1995.

DATES: Submit written comments on the collection of information by July 28, 2014.

ADDRESSES: Submit written comments on the collection of information by fax 202.395.5806 or by email to OIRA_submission@omb.eop.gov, Attn: OMB Desk Officer for ACL.

FOR FURTHER INFORMATION CONTACT: Alice Kelsey, 312-938-9860.

SUPPLEMENTARY INFORMATION: In compliance with 44 U.S.C. 3507, ACL has submitted the following proposed collection of information to OMB for review and clearance. The supplemental form to the financial status report for all ACL/AoA Title III grantees provides an understanding of how projects funded by the Older Americans Act are being administered by grantees, in conformance with legislative requirements, pertinent Federal regulations and other applicable instructions and guidelines issued by the Administration for Community Living (ACL). A template may be found on the ACL Web site at: http://www.acl.gov/NewsRoom/NewsInfo/docs/FFR-ACL-AoA-TitleIII-Supplemental_SF-425.pdf. The information will be used for Federal oversight of Title III projects. ACL estimates the burden of this collection of information as follows: 56 State Units on Aging (SUA) respond semiannually which should be an average burden of 2 hours per grantee for a total of 112 hours per submission.

Dated: June 20, 2014.
Kathy Greenlee,
Administrator and Assistant Secretary for Aging.

[FR Doc. 2014-15144 Filed 6-26-14; 8:45 am]

BILLING CODE 4154-01-P